DEPARTMENT OF COMMERCE

International Trade Administration

[C-570-946]

Pre-Stressed Concrete Steel Wire Strand from the People's Republic of China: Notice of Amended Final Affirmative Countervailing Duty Determination and Notice of Countervailing Duty Order

AGENCY: Import Administration, International Trade Administration, Department of Commerce.

SUMMARY: Based on affirmative final determinations by the Department of Commerce (the Department) and the International Trade Commission (ITC), the Department is issuing a countervailing duty order on pre-stressed concrete steel wire strand (PC strand) from the People's Republic of China (PRC). On June 22, 2010, the ITC notified the Department of its affirmative determination of material injury to a U.S. industry. See Pre-Stressed Concrete Steel Wire Strand from the People's Republic of China, USITC Pub. 4162, Inv. Nos. 701-TA-464 (Final) (June 2010) (ITC Final Determination Report).

EFFECTIVE DATE: July 7, 2010.

FOR FURTHER INFORMATION CONTACT: Jolanta Lawska, AD/CVD Operations, Office 3, Import Administration, International Trade Administration, U.S. Department of Commerce, 14th Street and Constitution Avenue, NW, Washington, DC 20230; telephone: (202) 482-8362.

SUPPLEMENTARY INFORMATION:

Case History

On May 21, 2010, the Department published its final determination in the countervailing duty investigation of PC strand from the PRC. See Pre-Stressed Concrete Steel Wire Strand from the People's Republic of China: Final Affirmative Countervailing Duty Determination, 75 FR 28557 (May 21, 2010) (Final Determination).

On June 22, 2010, the ITC notified the Department of its final determination pursuant to sections 705(b)(1)(A)(i) and 735(b)(1)(A)(i) of the Tariff Act of 1930, as amended (the Act), that an industry in the United States is materially injured by reason of subsidized imports of subject merchandise from the PRC. See ITC Final Determination.

Scope of Order

The merchandise covered by this order is PC strand. PC strand is steel wire strand, other than of stainless steel, which is suitable for use in, but not limited to, pre-stressed concrete (both pre-tensioned and post-tensioned) applications. The scope of this order encompasses all types and diameters of PC strand whether uncoated (uncovered) or coated (covered) by any substance, including but not limited to, grease, plastic sheath, or epoxy. This merchandise includes, but is not limited to, PC strand produced to the American Society for Testing and Materials (ASTM) A-416 specification, or comparable domestic or foreign specifications. PC strand made from galvanized wire is excluded from the scope if the zinc and/or zinc oxide coating meets or exceeds the 0.40 oz./ft2 standard set forth in ASTM-A-475.

The PC strand subject to this order is currently classifiable under subheadings 7312.10.3010 and 7312.10.3012 of the Harmonized Tariff Schedule of the United States (HTSUS). Although the HTSUS subheadings are provided for convenience and customs purposes, the written description of the scope of this order is dispositive.

Amendment to the Final Determination

In accordance with sections 705(d) and 777(i)(1) of the Act, on May 21, 2010, the Department published its notice of final affirmative countervailing duty determination in the countervailing duty investigation of PC strand from the PRC. See Final Determination. On June 19, 2010, petitioners in the investigation submitted a timely ministerial error allegation with respect to the Final Determination.¹

¹ Petitioners are American Spring Wire Corp., Insteel Wire Products Company, and Sumiden Wire Products Corp.

In accordance with 19 CFR 351.224(e), on June 28, 2010, the Department issued its Ministerial Error Correction Memorandum addressing petitioners' ministerial error allegations. See Memorandum to, John M. Andersen, Acting Deputy Assistant Secretary for Antidumping and Countervailing Duty Operations, “Final Determination Ministerial Error Allegation,” (June 28, 2010), a proprietary document of which the public version is on file in the Central Records Unit, room 1117, in the main Commerce building. After analyzing petitioners' ministerial error allegation, we have determined, in accordance with 19 CFR 351.224(e), that we made a ministerial error in our calculations performed for the final determination. As a result of correcting for this error, the countervailing duty calculated for the Fasten Group Corporation (Fasten Corp.), Fasten Group Import & Export Co., Ltd. (Fasten I&E), Jiangyin Hongsheng Co. Ltd. (Hongsheng), Jiangyin Fasten Steel (Fasten Steel), Jiangyin Hongyu Metal Products Co., Ltd. (Hongyu Metal), and Jiangyin Walsin Steel Cable Co., Ltd. (Walsin) (collectively, the Fasten Companies) has changed from 8.85 percent to 9.42 percent.

Section 705(c)(5)(A) of the Act states that for companies not investigated, an all-others rate will be determined by weight averaging the subsidy rates established for each individually investigated respondent. The all-others rate may not include zero and de minimis net subsidy rates, or any rates based solely on the facts available. Notwithstanding the language of section 705(c)(5)(A) of the Act, we have not calculated the all-others rate by weight averaging the rates of the Fasten Companies and the other mandatory respondent, Xinhua Metal Products Company (Xinhua), Xinyu Iron and Steel Joint Stock Limited Company (Xinyu), and Xinyu Iron and Steel Limited Liability Company (Xingang) (collectively, the Xinhua Companies), because doing so risks disclosure of proprietary information. Therefore, for the all-others rate, we have calculated a simple average of the two responding firms' rates.

In accordance with 19 CFR 351.224 (e), we are amending the subsidy rates of PC strand from the PRC. The revised subsidy rates are listed in the chart below.

Producer/Exporter | Original Subsidy Rate | Amended Subsidy Rate
Fasten Group Corporation (Fasten Corp.), Fasten Group Import & Export Co., Ltd. (Fasten I&E), Jiangyin Hongsheng Co. Ltd. (Hongsheng), Jiangyin Fasten Steel Products Co., Ltd. (Fasten Steel), Jiangyin Hongyu Metal Products Co., Ltd. (Hongyu Metal), and Jiangyin Walsin Steel Cable Co., Ltd. (Walsin) (Collectively, the Fasten Companies) | 8.85 percent ad valorem | 9.42 percent ad valorem
Xinhua Metal Products Company Ltd. (Xinhua), Xinyu Iron and Steel Joint Stock Limited Company (Xinyu), and Xingang Iron and Steel Joint Stock Limited Liability Company (Xingang) (Collectively the Xinhua Companies) | 45.85 percent ad valorem | 45.85 percent ad valorem
All Others | 27.35 percent ad valorem | 27.64 percent ad valorem

Countervailing Duty Order

On November 2, 2009, the Department published its Preliminary Determination and instructed U.S. Customs and Border Protection (CBP) to suspend liquidation of all entries of subject merchandise entered or withdrawn from warehouse, for consumption, on or after November 2, 2009. See Pre-Stressed Concrete Steel Wire Strand from the People's Republic of China: Preliminary Affirmative Countervailing Duty Determination, 74 FR 56576 (November 2, 2009) (Preliminary Determination). In accordance with section 703(d) of the Act, which states that the suspension of liquidation pursuant to a preliminary determination may not remain in effect for more than four months, the Department terminated suspension of liquidation effective March 2, 2010.

On June 22, 2010, in accordance with section 705(d) of the Act, the ITC notified the Department of its final determination that the industry in the United States producing PC strand is materially injured within the meaning of section 705(b)(1)(A)(i) of the Act by reason of subsidized imports of PC strand from the PRC. See ITC Final Determination Report. Therefore, in accordance with section 706 of the Act, the Department will direct CBP to reinstitute suspension of liquidation effective the date of publication of the ITC Final Determination in the Federal Register. See Pre-Stressed Concrete Steel Wire Strand from China: Determinations, 75 FR 36678 (June 28, 2010) (ITC Final Determination). The Department will also direct CBP to assess, upon further advice by the Department pursuant to section 706(a)(1) of the Act, countervailing duties for each entry of the subject merchandise in an amount based on the amended net countervailable subsidy rates for the subject merchandise as noted above.

This notice constitutes the countervailing duty order with respect to PC strand from the PRC, pursuant to section 706(a) of the Act. Interested parties may contact the Department's Central Records Unit, Room 1117 of the Commerce building, for copies of an updated list of countervailing duty orders currently in effect.

This order is issued and published in accordance with section 706(a) of the Act, 19 CFR 351.211(b) and 19 CFR 351.224(e).¹

¹ Petitioners are American Spring Wire Corp., Insteel Wire Products Company, and Sumiden Wire Products Corp.

Dated: June 29, 2010.
Paul Piquado,
Acting Deputy Assistant Secretary for Import Administration.

[FR Doc. 2010-16500 Filed 7-6-10; 8:45 am]

BILLING CODE 3510-DS-S